DEPARTMENT OF COMMERCE

International Trade Administration

[A-549-820]

Prestressed Concrete Steel Wire Strand From Thailand: Rescission of Antidumping Duty Administrative Review; 2019

AGENCY: Enforcement and Compliance, International Trade Administration, Department of Commerce.

SUMMARY: The Department of Commerce (Commerce) is rescinding the administrative review of the antidumping duty order on prestressed concrete steel wire strand (PC Strand) from Thailand for the period January 1, 2019, through December 31, 2019.

DATES: Applicable April 13, 2020.

FOR FURTHER INFORMATION CONTACT: Brian Smith or Samantha Kinney, Enforcement and Compliance, International Trade Administration, U.S. Department of Commerce, 1401 Constitution Avenue NW, Washington, DC 20230; Telephone: (202) 482-1766 or (202) 482-2285, respectively.

SUPPLEMENTARY INFORMATION:

Background

On January 2, 2020, Commerce published a notice of opportunity to request an administrative review of the antidumping duty order on PC Strand from Thailand for the period January 1, 2019, through December 31, 2019.¹ On January 31, 2020, The Siam Industrial Wire Co., Ltd. (SIW), a respondent interested party, filed a timely request for review with respect to itself.² Based on this request, on March 10, 2020, in accordance with section 751(a) of the Tariff Act of 1930, as amended (the Act), and 19 CFR 351.213(b), Commerce published in the Federal Register a notice of initiation of an administrative review covering the period January 1, 2019, through December 31, 2019.³ On March 9, 2020, SIW submitted a timely request to withdraw its request for administrative review of the antidumping duty order on PC Strand from Thailand.⁴

¹ See Antidumping or Countervailing Duty Order, Finding, or Suspended Investigation; Opportunity to Request Administrative Review, 85 FR 64 (January 2, 2020).

² See SIW's Letter, “Request of The Siam Industrial Wire Co., Ltd. for Administrative Review of the Antidumping Duty Order on Prestressed Concrete Steel Wire Strand from Thailand,” dated January 31, 2020.

³ See Initiation of Antidumping and Countervailing Duty Administrative Reviews, 85 FR 13860 (March 10, 2020) (Initiation Notice).

⁴ See SIW's Letter, “Withdrawal of Request of The Siam Industrial Wire Co., Ltd. for Administrative Review of the Antidumping Duty Order on Prestressed Concrete Steel Wire Strand from Thailand,” dated March 9, 2020.

Rescission of Review

Pursuant to 19 CFR 351.213(d)(1), Commerce will rescind an administrative review, in whole or in part, if the parties that requested the review withdraw the request within 90 days of the date of publication of notice of initiation of the requested review. As noted above, SIW fully withdrew its request by the 90-day deadline, and no other party requested an administrative review of the antidumping duty order. As such, Commerce is in receipt of a timely request for withdrawal of the instant administrative review with respect to the only company listed in the Initiation Notice. Accordingly, we are rescinding the administrative review of the antidumping duty order on PC Strand from Thailand for the period January 1, 2019, through December 31, 2019.

Assessment

Commerce will instruct U.S. Customs and Border Protection (CBP) to assess antidumping duties on all appropriate entries. Because Commerce is rescinding this review in its entirety, the entries to which this administrative review pertained shall be assessed at a rate equal to the cash deposit of estimated antidumping duties required at the time of entry, or withdrawal from warehouse, for consumption, in accordance with 19 CFR 351.212(c)(1)(i). Commerce intends to issue appropriate assessment instructions to CBP 15 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and the terms of an APO is a sanctionable violation.

Notification to Interested Parties

This notice is issued and published in accordance with section 751(a)(1) and 777(i)(1) of the Act and 19 CFR 351.213(d)(4).

Dated: April 7, 2020.
James Maeder,
Deputy Assistant Secretary for Antidumping and Countervailing Duty Operations.

[FR Doc. 2020-07718 Filed 4-10-20; 8:45 am]

BILLING CODE 3510-DS-P